DEPARTMENT OF ENERGY

Federal Energy Regulatory Commission

Combined Notice of Filings #1

Take notice that the Commission received the following electric rate filings:

Docket Numbers: ER13-251-001.

Applicants: Arizona Public Service Company.

Description: Arizona Public Service Company submits tariff filing per 35: Compliance Filing for APS Service Agreement No. 327-City of Asuza to be effective 1/1/2013.

Filed Date: 12/19/12.

Accession Number: 20121219-5090.

Comments Due: 5 p.m. ET 1/9/13.

Docket Numbers: ER13-357-001.

Applicants: Cirrus Wind 1, LLC.

Description: Substitute MBR Tariff to be effective 12/6/2012.

Filed Date: 12/19/12.

Accession Number: 20121219-5025.

Comments Due: 5 p.m. ET 1/9/13.

Docket Numbers: ER13-428-001.

Applicants: Pennsylvania Electric Company, PJM Interconnection, L.L.C.

Description: Penelec submits revised PJM SA No. 3440 to reflect effective date of 12/14/2012 to be effective 12/14/2012.

Filed Date: 12/18/12.

Accession Number: 20121218-5070.

Comments Due: 5 p.m. ET 1/8/13.

Docket Numbers: ER13-542-001.

Applicants: Louisville Gas and Electric Company.

Description: Louisville Gas and Electric Company submits tariff filing per 35.17(b): Errata Attach M Rev to be effective 12/12/2012.

Filed Date: 12/19/12.

Accession Number: 20121219-5109.

Comments Due: 5 p.m. ET 1/9/13.

Docket Numbers: ER13-571-000.

Applicants: Sierra Pacific Power Company.

Description: Rate Schedule No. 64. Engineering Procurement Construction Agmt-Mt Wheeler to be effective 12/17/2012.

Filed Date: 12/18/12.

Accession Number: 20121218-5001.

Comments Due: 5 p.m. ET 1/8/13.

Docket Numbers: ER13-573-000.

Applicants: CMS Energy Resource Management Company.

Description: CMS ERM Company—MBR to be effective 12/19/2012.

Filed Date: 12/18/12.

Accession Number: 20121218-5055.

Comments Due: 5 p.m. ET 1/8/13.

Docket Numbers: ER13-574-000.

Applicants: Niagara Mohawk Power Corporation, New York Independent System Operator, Inc.

Description: Notice of Termination of Service Agreement No. 1742 to be effective 12/31/2012 under ER13-574 Filing Type: 260.

Filed Date: 12/18/12.

Accession Number: 20121218-5071.

Comments Due: 5 p.m. ET 1/8/13.

Docket Numbers: ER13-575-000.

Applicants: Idaho Power Company.

Description: AMPS, Associated Mountain Power System to be effective 12/21/2012.

Filed Date: 12/18/12.

Accession Number: 20121218-5072.

Comments Due: 5 p.m. ET 1/8/13.

Docket Numbers: ER13-576-000.

Applicants: Duke Energy Carolinas, LLC.

Description: Joint OATT Attachment K Phase One to be effective 1/31/2013.

Filed Date: 12/18/12.

Accession Number: 20121218-5141.

Comments Due: 5 p.m. ET 1/8/13.

Docket Numbers: ER13-577-000.

Applicants: PacifiCorp.

Description: BPA et al Malin Construction/Operation and O&M Trust Agreements to be effective 9/22/2010.

Filed Date: 12/18/12.

Accession Number: 20121218-5150.

Comments Due: 5 p.m. ET 1/8/13.

Docket Numbers: ER13-578-000.

Applicants: Genesee Power Station Limited Partnership.

Description: Genesee Power Station—MBR to be effective 12/19/2012.

Filed Date: 12/19/12.

Accession Number: 20121219-5000.

Comments Due: 5 p.m. ET 1/9/13.

Docket Numbers: ER13-579-000.

Applicants: Grayling Generation Station Limited Partnership.

Description: Grayling Generating Station—MBR to be effective 12/20/2012.

Filed Date: 12/19/12.

Accession Number: 20121219-5012.

Comments Due: 5 p.m. ET 1/9/13.

Docket Numbers: ER13-580-000.

Applicants: Dearborn Industrial Generation, L.L.C.

Description: Dearborn Industrial Gen—MBR to be effective 12/20/2012.

Filed Date: 12/19/12.

Accession Number: 20121219-5020.

Comments Due: 5 p.m. ET 1/9/13.

Docket Numbers: ER13-581-000.

Applicants: CMS Generation Michigan Power, LLC.

Description: CMS Generation Michigan Power—MBR to be effective 12/20/2012.

Filed Date: 12/19/12.

Accession Number: 20121219-5023.

Comments Due: 5 p.m. ET 1/9/13.

Docket Numbers: ER13-582-000.

Applicants: Duke Energy Carolinas, LLC.

Description: Joint OATT Attachment K Phase Two to be effective 3/31/2013.

Filed Date: 12/19/12.

Accession Number: 20121219-5024.

Comments Due: 5 p.m. ET 1/9/13.

Docket Numbers: ER13-583-000.

Applicants: PJM Interconnection, L.L.C.

Description: PJM Interconnection, L.L.C. submits tariff filing per 35.15: Notice of Cancellation-First Revised SA Nos. 3156 & 3157 in Dkt No. ER12-835-000 to be effective 12/5/2012.

Filed Date: 12/19/12.

Accession Number: 20121219-5086.

Comments Due: 5 p.m. ET 1/9/13.

Docket Numbers: ER13-584-000.

Applicants: PJM Interconnection, L.L.C.

Description: PJM Interconnection, L.L.C. submits tariff filing per 35.13(a)(2)(iii: First Revised Service Agreement No. 3279; Queue No. X1-046 to be effective 12/3/2012.

Filed Date: 12/19/12.

Accession Number: 20121219-5094.

Comments Due: 5 p.m. ET 1/9/13.

Docket Numbers: ER13-585-000.

Applicants: New England Power Pool Participants Committee, ISO New England Inc.

Description: New England Power Pool Participants Committee submits tariff filing per 35.13(a)(2)(iii: Rev to FCM Rules Rel to Cap Supply Obl Bil and Rec Auc 1 of 2 to be effective 4/1/2013.

Filed Date: 12/19/12.

Accession Number: 20121219-5095.

Comments Due: 5 p.m. ET 1/9/13.

Docket Numbers: ER13-585-001.

Applicants: New England Power Pool Participants Committee, ISO New England Inc.

Description: New England Power Pool Participants Committee submits tariff filing per 35.17(b): Rev. to FCM Rules Rel to Cap Sup Obl Bil and Rec Auc 2 of 2 to be effective 4/19/2013.

Filed Date: 12/19/12.

Accession Number: 20121219-5105.

Comments Due: 5 p.m. ET 1/9/13.

Docket Numbers: ER12-1932-003.

Applicants: Franklin County Wind, LLC.

Description: Franklin County Wind, LLC submits tariff filing per 35: FCW Market Based Rate Tariff—Compliance Filing to be effective 8/1/2012.

Filed Date: 12/19/12.

Accession Number: 20121219-5064.

Comments Due: 5 p.m. ET 1/9/13.

Docket Numbers: ER12-1933-004.

Applicants: Interstate Power and Light Company.

Description: Interstate Power and Light Company submits tariff filing per 35: IPL Market Based Rate Tariff—Compliance Filing to be effective 8/1/2012.

Filed Date: 12/19/12.

Accession Number: 20121219-5065.

Comments Due: 5 p.m. ET 1/9/13.

Docket Numbers: ER12-1934-003.

Applicants: Wisconsin Power and Light Company.

Description: Wisconsin Power and Light Company submits tariff filing per 35: WPL Market Based Rate Tariff—Compliance Filing to be effective 8/1/2012.

Filed Date: 12/19/12.

Accession Number: 20121219-5067.

Comments Due: 5 p.m. ET 1/9/13.

Docket Numbers: ER12-2302-001.

Applicants: Midwest Independent Transmission System.

Description: 12-18-12 SSR Compliance Filing to be effective 9/24/2012.

Filed Date: 12/18/12.

Accession Number: 20121218-5147.

Comments Due: 5 p.m. ET 1/8/13.

Take notice that the Commission received the following electric securities filings:

Docket Numbers: ES13-11-000.

Applicants: Monongahela Power Company.

Description: Application for Authorization under Section 204(a) of the Federal Power Act to Issue Securities and Assume $73.5 Million Promissory Note of FirstEnergy Service Company on behalf of Monongahela Power Company.

Filed Date: 12/18/12.

Accession Number: 20121218-5175.

Comments Due: 5 p.m. ET 1/8/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2012.
Nathaniel J. Davis, Sr.,
Deputy Secretary.

[FR Doc. 2012-31143 Filed 12-27-12; 8:45 am]

BILLING CODE 6717-01-P